ENVIRONMENTAL PROTECTION AGENCY

[FRL-7133-5]

Draft Particulate Matter Risk Analysis Methodology Document Available for Public Comment

AGENCY: Environmental Protection Agency (EPA).

ACTION: Notice of a draft for public review and comment.

SUMMARY: On January 23, the Office of Air Quality Planning and Standards (OAQPS) of EPA will make available for public review and comment a draft document, Proposed Methodology for Particulate Matter Risk Analyses for Selected Urban Areas (hereafter, draft PM Risk Analysis Methodology). This document outlines the analyses and methods proposed for the quantitative risk assessment for fine particles that will be conducted as part of the periodic review of the national ambient air quality standards (NAAQS) for particulate matter (PM) that is being conducted under sections 108 and 109 of the Clean Air Act (CAA).

DATES: Comments on the Draft PM Risk Analysis Methodology document should be submitted on or before February 27, 2002.

ADDRESSES: Comments on the draft PM Risk Analysis Methodology document should be submitted (in duplicate if possible) to Mr. Harvey Richmond, Office of Air Quality Planning and Standards (C539-01), U.S. Environmental Protection Agency, Research Triangle Park, NC 27711; for comments sent via any overnight delivery service: U.S. EPA, Attn: Mail Code C539-01, 4930 Old Page Road, Research Triangle Park, NC 27709; e-mail: richmond.harvey@epa.gov; telephone: (919) 541-5271; fax: (919) 541-0237.

Availability of Related Information:

Single copies of the draft PM Risk Analysis Methodology document may be obtained without charge by contacting Harvey Richmond at the address or telephone number listed above. Please include name, address, telephone number, e-mail if available, and delivery preference (mail or e-mail delivery).

Electronic Availability:

The draft PM Risk Analysis Methodology document can also be obtained online at the Agency's OAQPS Technology Transfer Network (TTN) under the technical area of Office of Air and Radiation Policy and Guidance (OAR P&G), and under the heading of “Staff Papers” at the following internet web site: http://www.epa.gov/ttn/oarpg/t1sp.html. If assistance is needed in accessing the system, call the help desk at (919) 541-5384 in Research Triangle Park, NC.

FOR FURTHER INFORMATION CONTACT: Mr. Harvey Richmond at (919) 541-5271.

SUPPLEMENTARY INFORMATION: The EPA is currently reviewing the NAAQS for PM. Sections 108 and 109 of the CAA require that EPA carry out a periodic review and revision, where appropriate, of the scientific criteria and the NAAQS for “criteria” air pollutants such as PM. Details of EPA's plans for review of the NAAQS for PM were announced in a previous Federal Register notice (62 FR 55201, October 23, 1997). The second external review draft of the Air Quality Criteria for Particulate Matter and the preliminary draft Staff Paper were made available for public review and comment (66 FR 18929, April 12, 2001 and 66 FR 32621, June 15, 2001, respectively).

The draft PM Risk Analysis Methodology document describes EPA's plans and approach for conducting PM health risk analyses for fine particles that will be summarized and discussed in the next draft of the Staff Paper. The risk analysis will be performed to assist in the preparation of the OAQPS Staff Paper, which is to evaluate the policy implications of the key scientific and technical information contained in the Air Quality Criteria document and identify critical elements that EPA staff believe should be considered in reviewing the NAAQS. The Staff Paper is intended to “bridge the gap” between the scientific review contained in the Air Quality Criteria document and the public health and welfare policy judgments required of the Administrator in reviewing the NAAQS.

The draft PM Risk Analysis Methodology will be reviewed at an upcoming public teleconference of the Clean Air Scientific Advisory Committee (CASAC) of EPA's Science Advisory Board. A future Federal Register notice will inform the public of the date and details of that meeting. Following the CASAC meeting, EPA will revise the draft Risk Analysis Methodology taking into account public and CASAC comments, and proceed with the risk analyses.

Dated: January 22, 2002.
Anna B. Duncan,
Acting Director, Office of Air Quality Planning and Standards.

[FR Doc. 02-2013 Filed 1-25-02; 8:45 am]

BILLING CODE 6560-50-P